DEPARTMENT OF AGRICULTURE

Agricultural Marketing Service

[Docket No.: AMS-DA-08-0005; DA-08-01]

Notice of Request for New Information Collection

AGENCY: Agricultural Marketing Service, USDA.

ACTION: Notice and request for comments.

SUMMARY: In accordance with the Paperwork Reduction Act of 1995 (44 U.S.C. Chapter 35), this notice announces that the Agricultural Marketing Service (AMS) is requesting approval from the Office of Management of Budget of a new information collection—Application for Export Certification—under the Dairy program.

DATES: Comments must be submitted on or before April 7, 2008.

ADDRESSES: Interested persons are invited to submit written comments concerning this notice. Comments can be sent to Reginald Pasteur, Dairy Standardization Branch, Dairy Programs, Agricultural Marketing Service, U.S. Department of Agriculture, 1400 Independence Avenue, SW., 2734-S; Washington, DC 20250-0230. E-mail address: Reginald.pasteur@usda.gov or fax (202) 720-2643. Comments may also be electronically submitted at the Federal eRulemaking portal: http://www.regulations.gov.

All comments should reference docket number DA-08-01 and note the date and page number of this issue of the Federal Register and will be available for public inspection at the above address between 8 a.m. and 4:30 p.m., est, Monday through Friday, except legal holidays.

FOR FURTHER INFORMATION CONTACT: Contact Reginald Pasteur, Dairy Standardization Branch, Dairy Programs, AMS, USDA (202) 690-3571, e-mail address: reginald.pasteur@usda.gov.

SUPPLEMENTARY INFORMATION: The Secretary of Agriculture is authorized by the Agricultural Marketing Act of 1946 (AMA), as amended (7 U.S.C. 1621 et seq.), to provide voluntary Federal dairy grading and inspection services to facilitate the orderly marketing of dairy products and to enable consumers to obtain the quality of dairy products they desire. One means of facilitating international marketing of domestically produced dairy products is through the issuance of export certificates. Many importing countries require shipment specific certificates attesting to the acceptability of products and/or the manufacturing operations that produce these products. Some countries accept generic export certificates issued by the Dairy Grading Branch. Other countries have accepted certificates issued by the Dairy Grading Branch that include country specific information. The Dairy Grading Branch coordinates the content of these certificates with other Department of Agriculture (USDA) and Federal agencies when the statements made in these certificates are based on responsibilities of those agencies.

The manufacturing operations that produce products eligible for export certification include those operations participating in the USDA approved plant program administered by the Dairy Grading Branch (7 CFR part 58) and operations identified by the Food and Drug Administration. The AMA provides for the collection of reasonable fees from users of the services provided by the Dairy Grading Branch. Manufacturers and exporters requesting certificates are charged fees commensurate with costs associated with this service.

In order to prepare an export certificate, it is necessary that the manufacturer or exporter provide shipment specific information. This is accomplished by completing a worksheet developed by the Dairy Grading Branch then mailing or faxing this completed worksheet to the Washington, DC office. In some instances a Certificate of Conformance prepared by the manufacturer or exporter must also be completed and provided to the office before an export certificate can be prepared.

The information collection requirements in this request are needed in order for the Dairy Grading Branch to issue export certificates. The Export Certification Program supports the USDA, AMS mission of facilitating the marketing of U.S. agricultural products.

Title: Applications for Export Certification.

OMB Number: 0581-New.

Expiration Date of Approval: Three years from date of OMB approval.

Type of Request: New Information Collection.

Estimate of Burden: Public reporting burden for this collection of information is estimated to average 0.30 hours per response.

Respondents: Food product manufacturing facilities, export brokers.

Estimated Number of Respondents: 125 respondents (100 manufacturers, 25 export brokers).

Estimated Number of Responses: 4,250 responses per year.

Estimated Number of Responses per Respondent: 34.

Estimated Total Annual Burden on Respondents: 1,275 Hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Authority: 7 U.S.C. 1621-1627.

Dated: February 1, 2008.
Lloyd C. Day,
Administrator, Agricultural Marketing Service.

[FR Doc. E8-2192 Filed 2-6-08; 8:45 am]

BILLING CODE 3410-02-P